DEPARTMENT OF TRANSPORTATION

Federal Highway Administration

[Docket No. FHWA-2007-27281]

Agency Information Collection Activities: Notice of Request for Extension of Currently Approved Information Collection

AGENCY: Federal Highway Administration (FHWA), DOT.

ACTION: Notice of Request for Extension of Currently Approved Information Collection.

SUMMARY: The FHWA invites public comments about our intention to request the Office of Management and Budget's (OMB) approval for renewal of an existing information collection that is summarized below under Supplementary Information. We are required to publish this notice in the Federal Register by the Paperwork Reduction Act of 1995.

DATES: Please submit comments by April 27, 2007.

ADDRESSES: You may submit comments identified by DOT DMS Docket Number FHWA-2007-27281 by any of the following methods:

• Web Site: http://dms.dot.gov. Follow the instructions for submitting comments on the DOT electronic docket site.

• Fax: 1-202-493-2251.

• Mail: Docket Management Facility; U.S. Department of Transportation, 400 Seventh Street, SW., Nassif Building, Room PL-401, Washington, DC 20590-0001.

• Hand Delivery: Room PL-401 on the plaza level of the Nassif Building, 400 Seventh Street, SW., Washington, DC, between 9 a.m. and 5 p.m., Monday through Friday, except Federal holidays.

Docket: For access to the docket to read background documents or comments received, go to http://dms.dot.gov at any time or to Room 401 on the plaza level of the Nassif Building, 400 Seventh Street, SW., Washington, DC, between 9 a.m. and 5 p.m., Monday through Friday, except Federal holidays.

FOR FURTHER INFORMATION CONTACT: Chung Eng, 202-366-8043, Office of Transportation Operations, Federal Highway Administration, Department of Transportation, 400 Seventh Street, SW., Washington, DC 20590. Office hours are from 8 a.m. to 5 p.m., Monday through Friday, except Federal holidays.

SUPPLEMENTARY INFORMATION: Title: Work Zone Safety and Mobility.

OMB Control #: 2125-0600.

Background: As amended on September 9, 2004, 23 CFR 630, Subpart J “Work Zone Safety and Mobility” requires State and local transportation agencies that receive Federal-aid highway funding to use available work zone information and data to assess and manage the work zone impacts of highway projects. While this Rule does not require the reporting or submission of work zone data, it does:

• Require agencies to use work zone data at both the project and process levels to manage and improve work zone safety and mobility;

• At the project level, require agencies to use field observations, available work zone crash data, and operational information to manage the work zone impacts of individual projects;

• At the process level, require agencies to analyze work zone crash and operational data from multiple projects to improve agency processes and procedures, and continually pursue the improvement of overall work zone safety and mobility; and

• Recommend that agencies maintain elements of the data and information resources that are necessary to support the use of work zone data for the activities above.

Most of the data needed to conduct work zone performance monitoring during project implementation as well as post-implementation assessments should be readily available from pre-existing sources. However, data collection or data storage and retrieval systems may need to be altered to take full advantage of available information resources.

Respondents: The State Departments of Transportation (or equivalent) in the 50 States, the District of Columbia, and the Commonwealth of Puerto Rico.

Frequency: Continuous.

Estimated Total Annual Burden Hours: The estimated total annual burden for all respondents is 83,200 hours. This involves responses from 52 State Departments of Transportation or equivalent with an estimated average time of 1,600 hours per respondent over the course of a year. This estimate only includes the burden on the respondents to provide information that is not usually and customarily collected.

Authority: The Paperwork Reduction Act of 1995; 44 U.S.C. Chapter 35, as amended; and 49 CFR 1.48.

Issued on: February 20, 2007.
James R. Kabel,
Chief, Management Programs and Analysis Division.

[FR Doc. E7-3196 Filed 2-23-07; 8:45 am]

BILLING CODE 4910-22-P